COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and services to the Procurement List that will be furnished by nonprofit agencies employing persons who are blind or have other severe disabilities, and deletes products and services previously furnished by such agencies.

DATES: Comments must be received on or before: July 3, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products:

NSN(s)—Product Name(s)

MR 10732—Hershey's Lava Cake Maker, Shipper 20732

MR 10733—Reese's Lava Cake Maker, Shipper 20732

MR 10738—Holder, Pot Lid and Utensil, Includes Shipper 20738

MR 10739—Herb Stripper, Includes Shipper 20739

Mandatory Source(s) of Supply: Winston-Salem Industries for the Blind, Inc., Winston-Salem, NC.

Mandatory for: The requirements of military commissaries and exchanges in accordance with the Code of Federal Regulations, Chapter 51, 51-6.4.

Contracting Activity: Defense Commissary Agency.

Distribution: C-List.

Services:

Service Type: Custodial and Related Service.

Mandatory for: GSA PBS Region 1, Thomas P. O'Neill, Jr. Federal Office Building, 10 Causeway Street, Boston, MA.

Mandatory Source(s) of Supply: Work, Incorporated, Dorchester, MA.

Contracting Activity: GSA PBS Region 1, Boston, MA.

Service Type: Base Supply Center.

Mandatory for: US Army, Walter Reed Army Institute of Research, 503 Robert Grant Avenue, Silver Spring, MD.

Mandatory Source(s) of Supply: Industries for the Blind, Inc., West Allis, WI.

Contracting Activity: Dept of the Army, W4PZ USA MED RSCH ACQUIS ACT, Fort Detrick, MD.

Deletions

The following products and services are proposed for deletion from the Procurement List:

Products:

NSN(s)—Product Name(s)

MR 305—Melamine Dinner Plate

MR 306—Melamine Fruit Plate

MR 307—21oz Melamine Tumbler

MR 308—Bamboo Placemat

MR 1121—Bag, Storage, Vacuum Sealed, Club Pack

MR 1130—4-Section Tray, Holiday, Melamine

MR 1131—Serving Tray, Holiday, Melamine 18” x 13”

MR 1132—Serving Bowl, Holiday, Melamine

MR 1135—Set, Spreader, 4Pc

MR 1150—Set, Mold, Cupcake, Red, Giant Cupcake, 3pc

MR 1151—Set, Pan, Bake, Perfect Brownie Pan, 3pc

MR 1152—Set, Pasta Cooker, Blue, Pasta Express, 7pc

MR 1153—Basket, Cooking, Steel, Multipurpose

MR 1155—Glove, Oven, Flexi

MR 1156—Device, Cutting, Multi-Use, Green, Snip It

MR 1157—Set, Knife and Peeler, Ceramic, Kitchen Samurai

MR 1158—Set, Meatloaf Pan and Aerated Tray

MR 1168—Carrier, Cake and Cupcake, Collapsible

MR 1169—Set, Bowl and Lid, Blue, 4 Piece

Mandatory Source(s) of Supply:

Industries for the Blind, Inc., West Allis, WI.

MR 1053—Mop, Sponge, Triple Action

MR 1083—Mop, Ratchet, Twist Action, Cotton

MR 1084—Refill, Mop, Ratchet, Twist Action, Cotton

Mandatory Source(s) of Supply: LC Industries, Inc., Durham, NC.

Contracting Activity: Defense Commissary Agency.

Services:

Service Type: Switchboard Operation Service

Mandatory for: US Air Force, Patrick Air Force Base, 1225 Pershing Place, Patrick AFB, FL

Mandatory Source(s) of Supply: Brevard Achievement Center, Inc., Rockledge, FL

Contracting Activity: Dept of the Air Force, FA252145 CONS LGC, Patrick Air Force Base, FL

Service Type: Switchboard Operation Service

Mandatory for: Keesler Air Force Base, Keesler AFB, MS

Mandatory Source(s) of Supply: Mississippi Goodworks, Inc., Gulfport, MS

Contracting Activity: Dept of the Air Force, FA7014 AFDW PK, Andrews Air Force Base, MD

Barry S. Lineback,
Director, Business Operations.

[FR Doc. 2016-13126 Filed 6-2-16; 8:45 am]

BILLING CODE 6353-01-P